DEPARTMENT OF LABOR

Office of Federal Contract Compliance Programs

Agreement Approval Process for Use of Functional Affirmative Action Programs; Proposed Approval of Information Collection Requirements; Comment Request

ACTION: Notice.

SUMMARY: The Department of Labor (DOL), as part of its continuing effort to reduce paperwork and respondent burden, conducts a pre-clearance consultation program to provide the general public and federal agencies with an opportunity to comment on proposed and/or continuing collections of information in accordance with the Paperwork Reduction Act of 1995 (PRA). The program helps ensure that requested data can be provided in the desired format, reporting burden (time and financial resources) is minimized, collection instruments are clearly understood, and the impact of collection requirements on respondents can be properly assessed. Currently, the Office of Federal Contract Compliance Programs (OFCCP) is soliciting comments concerning its proposal to obtain approval from the Office of Management and Budget (OMB) to renew the information collection that implements standard procedures for supply and service contractors seeking approval to develop affirmative action programs based on functional or business units. A copy of the proposed information collection request can be obtained by contacting the office listed below in the FOR FURTHER INFORMATION CONTACT section of this notice or by accessing it at www.regulations.gov.

DATES: Written comments must be submitted to the office listed in the addresses section below on or before April 11, 2022.

ADDRESSES: You may submit comments by any of the following methods:

Electronic comments: The federal eRulemaking portal at www.regulations.gov. Follow the instructions found on that website for submitting comments.

Mail, Hand Delivery, Courier: Addressed to Tina T. Williams, Director, Division of Policy and Program Development, Office of Federal Contract Compliance Programs, 200 Constitution Avenue NW, Room C-3325, Washington, DC 20210.

Instructions: Please submit one copy of your comments by only one method. For faster submission, we encourage commenters to transmit their comment electronically via the www.regulations.gov website. Comments that are mailed to the address provided above must be postmarked before the close of the comment period. All submissions must include OFCCP's name for identification. Comments submitted in response to the notice, including any personal information provided, become a matter of public record and will be posted on www.regulations.gov. Comments will also be summarized and/or included in the request for OMB approval of the information collection request.

FOR FURTHER INFORMATION CONTACT: Tina T. Williams, Director, Division of Policy and Program Development, Office of Federal Contract Compliance Programs, Room C-3325, 200 Constitution Avenue NW, Washington, DC 20210. Telephone: (202) 693-0103 (voice) (this is not a toll-free number). Copies of this notice may be obtained in alternative formats (large print, braille, audio recording) upon request by calling the numbers listed above.

SUPPLEMENTARY INFORMATION: I. Background: OFCCP administers and enforces the three equal employment opportunity laws listed below.

• Executive Order 11246, as amended (E.O. 11246)

• Section 503 of the Rehabilitation Act of 1973, as amended (Section 503)

• Vietnam Era Veterans' Readjustment Assistance Act of 1974, as amended (VEVRAA)

These authorities prohibit employment discrimination by covered federal contractors and subcontractors and require that they take affirmative action to provide equal employment opportunities regardless of race, color, religion, sex, sexual orientation, gender identity, national origin, disability, or status as a protected veteran. Additionally, federal contractors and subcontractors are prohibited from discriminating against applicants and employees for asking about, discussing, or sharing information about their pay or, in certain circumstances, the pay of their co-workers.

E.O. 11246 applies to federal contractors and subcontractors and to federally assisted construction contractors holding a government contract in excess of $10,000, or government contracts that have, or can reasonably be expected to have, an aggregate total value exceeding $10,000 in a 12-month period. E.O. 11246 also applies to government bills of lading, depositories of federal funds in any amount, and financial institutions that are issuing and paying agents for U.S. savings bonds. Section 503 prohibits employment discrimination against applicants and employees because of physical or mental disability and requires contractors and subcontractors to take affirmative action to employ and advance in employment qualified individuals with disabilities. Section 503 applies to federal contractors and subcontractors with contracts in excess of $15,000.¹ VEVRAA requires contractors to take affirmative action to employ, and advance in employment, qualified protected veterans. VEVRAA applies to federal contractors and subcontractors with contracts of $150,000 or more.²

¹ Effective October 1, 2010, the coverage threshold under Section 503 increased from $10,000 to $15,000, in accordance with the inflationary adjustment requirements in 41 U.S.C. 1908. See Federal Acquisition Regulation; Inflation Adjustment of Acquisition-Related Thresholds, 75 FR 53129 (Aug. 30, 2010).

² Effective October 1, 2015, the coverage threshold under VEVRAA increased from $100,000 to $150,000, in accordance with the inflationary adjustment requirements in 41 U.S.C. 1908. See Federal Acquisition Regulation; Inflation Adjustment of Acquisition-Related Thresholds, 80 FR 38293 (July 2, 2015).

This proposed information collection request outlines the legal authority, procedures, burden, and cost associated with contractors requesting a new FAAP agreement as well as modifying, certifying, and terminating an existing agreement.

II. Review Focus: OFCCP is particularly interested in comments that:

• Evaluate whether the proposed collection of information is necessary for the compliance assistance functions of the agency that support the agency's compliance mission, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology. In particular, OFCCP is seeking comments on whether FAAP documents, such as agreement requests, modification notices, certifications, termination notices, or other information requested during the FAAP approval and certification process, should be submitted through OFCCP's Contractor Portal.³

³ Information on OFCCP's Contractor Portal is available at https://www.dol.gov/agencies/ofccp/contractorportal (last accessed January 27, 2022).

III. Current Actions: OFCCP seeks approval of this new information collection in order to carry out and enhance its responsibilities to enforce the nondiscrimination and affirmative action provisions of the three legal authorities it administers.

Type of Review: Regular.

Agency: Office of Federal Contract Compliance Programs.

Title: Agreement Approval Process for Use of Functional Affirmative Action Programs.

OMB Number: 1250-0006.

Agency Number: None.

Affected Public: Business or other for-profit entities.

Total Respondents: 86 contractors.

Total Annual Responses: 150.6 responses.

Average Time per Response: 6.7 hours.

Estimated Total Burden Hours: 1,006 hours.

Frequency: Annual.

Total Burden Cost (capital/startup): $0.

Total Burden Cost (operating/maintenance): $0.

Tina T. Williams,
Director, Division of Policy and Program Development, Office of Federal Contract Compliance Programs.

[FR Doc. 2022-02652 Filed 2-8-22; 8:45 am]

BILLING CODE 4510-CM-P